DEPARTMENT OF ENERGY

Federal Energy Regulatory Commission

[Docket No. OR00-2-000]

ExxonMobil Pipeline Company; Notice of Petition for Declaratory Order

March 15, 2000.

Take notice that on March 9, 2000, pursuant to Rules 207(a)(2) and 212 of the Commission's Rules of Practice and Procedure, 18 CFR 385.207, 385.212, ExxonMobil Pipeline Company (EMPCo.) tendered for filing a petition for a declaratory order regarding the proposed rate for transportation service to be provided through a new crude oil pipeline from the Diana and Hoover Fields in the offshore Gulf of Mexico, to onshore facilities at Quintana and Freeport, Texas.

EMPCo. seeks regulatory assurance regarding its initial Hoover Offshore Oil Pipeline System (HOOPS) rate, which it states is based on the Commission's customary oil pipeline ratemaking formula with two narrow variations. First, EMPCo requests authority to use the unit of throughput (UOT) method of depreciation, rather than straight-line or some other form of remaining life depreciation. Second, EMPCo seeks authority to develop its initial rate based on a five-year “levelized” rate approach.

EMPCo. anticipates a June 15, 2000 start-up of operations, and requests that the Commission issue an expedited order declaring (1) that the unit of throughput depreciation approach may be used for HOOPS rates; (2) that the initial HOOPS rate may be based on projected costs and revenues levelized over the first five years of HOOPS operations. EMPCo states that it proposes to charge the initial rate of $2.104 per barrel set forth in Attachment B-10 to the filing, if its petition is accepted before start-up subject to changes only as permitted or required by the Commission's indexing rules. EMPCo states that absent the grant of its petition before start-up it would be required to charge $2.35 per barrel, as set forth in Attachment B-6 to the filing.

Any person desiring to be heard or to protest said filing should file a motion to intervene or a protest with the Federal Energy Regulatory Commission, 888 First Street NE, Washington, DC 20426, in accordance with sections 385.214 or 385.211 of the Commission's Rules and Regulations. All such motions or protests must be filed on or before March 30, 2000, with replies to any protests due April 10, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-6885 Filed 3-20-00; 8:45 am]

BILLING CODE 6717-01-M